DEPARTMENT OF ENERGY

Federal Energy Regulatory Commission

[LLC Project No. 14360-000]

Hydro Development; Notice of Preliminary Permit Application Accepted for Filing and Soliciting Comments, Motions To Intervene, and Competing Applications

On February 3, 2012, Hydro Development, LLC filed an application for a preliminary permit, pursuant to section 4(f) of the Federal Power Act (FPA), proposing to study the feasibility of the Cascade Creek Hydroelectric Project (Cascade Creek Project or project) to be located on Swan Lake and Cascade Creek, near Petersburg, Alaska. The sole purpose of a preliminary permit, if issued, is to grant the permit holder priority to file a license application during the permit term. A preliminary permit does not authorize the permit holder to perform any land-disturbing activities or otherwise enter upon lands or waters owned by others without the owners' express permission.

The proposed project would consist of the following: (1) The existing Swan Lake with surface area of 574 acres and useable storage capacity of 22,500 acre-feet; (2) an outlet control structure consisting of a low-head weir and a 3-foot-high, 50-foot-wide crest gate; (3) a submerged siphon inlet with screens; (4) a tunnel and penstock system conveying flows from the lake siphon to the powerhouse including: (i) A 26-foot-long, 26-foot-wide, 98-foot-deep concrete lined vertical shaft containing 10-foot-diameter siphon piping and a siphon shutoff valve; (ii) a 12-foot-diameter, 12,700-foot-long unlined low pressure tunnel; (iii) a 14-foot-diameter, 1,320-foot-long unlined vertical shaft/vent; (iv) a 14-foot-diameter, 1,980-foot-long tunnel containing a 9-foot-diameter, 1,980-foot-long steel penstock; and (v) a 9-foot-diameter, 780-foot-long buried steel penstock; (5) a 140-foot-long, 80-foot-wide concrete and metal powerhouse with three 23.3-megawatt (MW), vertical-shaft Pelton turbine units having a total installed capacity of 70 MW; (6) a 450-foot-long, 40-foot-wide riprap-armored trapezoidal open-channel tailrace; (7) a new marine access facility, including a dock and barge landing ramp; (8) a 18.7-mile-long, 138-kilovolt transmission line consisting of buried, submarine, and overhead segments, with interconnection to the existing Scow Bay substation; and (9) appurtenant facilities. The estimated annual generation of the Cascade Creek Project would be 200 gigawatt-hours.

Applicant Contact: Mr. Corky Smith, Hydro Development, LLC, 928 Thomas Road, Bellingham, Washington 98226; phone: (360) 733-3332.

FERC Contact: Kim Nguyen; phone: (202) 502-6105.

Deadline for filing comments, motions to intervene, competing applications (without notices of intent), or notices of intent to file competing applications: 60 days from the issuance of this notice. Competing applications and notices of intent must meet the requirements of 18 CFR § 4.36. Comments, motions to intervene, notices of intent, and competing applications may be filed electronically via the Internet. See 18 CFR § 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE. Washington, DC 20426.

More information about this project, including a copy of the application, can be viewed or printed on the “eLibrary” link of Commission's Web site at http://www.ferc.gov/docs-filing/elibrary.asp. Enter the docket number (P-14360) in the docket number field to access the document. For assistance, contact FERC Online Support.

Dated: January 16, 2013.
Kimberly D. Bose,
Secretary.

[FR Doc. 2013-01283 Filed 1-22-13; 8:45 am]

BILLING CODE 6717-01-P